DEPARTMENT OF TRANSPORTATION

Federal Aviation Administration

[Docket No. is FAA-2014-0422]

Notice of Decision; Gallatin County, MT, Request for Waiver

AGENCY: Federal Aviation Administration, DOT.

ACTION: Notice of Decision.

SUMMARY: This document notifies the public that the Federal Aviation Administration has granted a waiver to Gallatin County, MT pursuant to 49 U.S.C. 40125(d). The waiver enables Gallatin County to contract for a public aircraft operation to conduct search and rescue operations without complying with the 90-day lease minimum required under 49 U.S.C. 40102(a)(41)(D).

ADDRESSES: You may review public docket for the waiver request and the grant (Docket No. FAA-2014-0422) at the Docket Management Facility in Room W12-140 of the West Building Ground Floor at 1200 New Jersey Avenue SE., Washington, DC 20590-0001 between 9 a.m. and 5 p.m., Monday through Friday, except Federal holidays. You may also review the public docket on the Internet at http://www.regulations.gov.

This document is being published to inform interested parties of the agency's decision to grant the request for waiver authority from the 90-day exclusive use provision of 49 U.S.C 40102(a)(41)(D) when operating or contracting for search and rescue as public aircraft operations.

Questions regarding this grant may be directed to the General Aviation and Commercial Division (AFS-800) of the Flight Standards Service at (202) 385-9600.

Issued in Washington, DC, on June 25, 2014.
Brenda D. Courtney,
Acting Director, Office of Rulemaking.

[FR Doc. 2014-15555 Filed 7-1-14; 8:45 am]

BILLING CODE 4910-13-P